DEPARTMENT OF HOMELAND SECURITY

Coast Guard

33 CFR Parts 100, 147, and 165

[USCG-2009-0777]

Quarterly Listings; Safety Zones, Security Zones and Special Local Regulations

AGENCY: Coast Guard, DHS.

ACTION: Notice of temporary rules issued.

SUMMARY: This document provides required notice of substantive rules issued by the Coast Guard and temporarily effective between January 2007 and January 2008, that expired before they could be published in the Federal Register. This document lists temporary safety zones, security zones, and local regulations, all of limited duration and for which timely publication in the Federal Register was not possible.

DATES: This document lists temporary Coast Guard rules between 8 January 2007 and 30 January that became effective and were terminated before they could be published in the Federal Register.

ADDRESSES: The Docket Management Facility maintains the public docket for this notice. Documents indicated in this notice will be available for inspection or copying at the Docket Management Facility (M-30), U.S. Department of Transportation, West Building, Ground Rloor, Room W12-140, 1200 New Jersey Avenue, SE., Washington, DC 20590 between 9 a.m. and 5 p.m., Monday through Friday, except Federal holidays.

FOR FURTHER INFORMATION CONTACT: For questions on this notice contact Yeoman First Class Denise Johnson, Office of Regulations and Administrative Law, telephone (202) 372-3862. For questions on viewing, or on submitting material to the docket, contact Ms. Angie Ames, Docket Operations, telephone 202-366-5115.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these safety zones, security zones or special local regulations by Coast Guard officials' on-scene prior to any enforcement action. However, the Coast Guard, by law, must publish in the Federal Register notice of substantive rules adopted. To meet this obligation without imposing undue expense on the public, the Coast Guard periodically publishes a list of temporary safety zones, security zones, and local regulations. Permanent rules are not included in this list because they are published in their entirety in the Federal Register. Temporary rules are also published in their entirety if sufficient time is available to do so before they are placed in effect or terminated. The temporary rules listed in this notice have been exempted from review under Executive Order 12666, Regulatory Planning and Review, because of their emergency nature, or limited scope and temporary effectiveness.

The following unpublished rules were placed in effect temporarily during the period between January 2007 and January 2008, unless otherwise indicated.

Dated: August 19, 2009.
S.G. Venckus,
Chief, Office of Regulations and Administrative Law.

3rd Quarter 2008 Listing
Docket number | Location | Type | Effective date
CGD01-2007-033 | South Portland, ME | Safety Zones (Parts 147 and 165) | 3/31/2007
CGD01-2007-081 | Bellport, NY | Safety Zones (Parts 147 and 165) | 7/14/2007
CGD01-2007-083 | Nahant, MA | Safety Zones (Parts 147 and 165) | 7/4/2007
CGD01-2007-087 | Point O' Woods, NY | Safety Zones (Parts 147 and 165) | 7/1/2007
CGD01-2007-089 | Kennebunkport, ME | Security Zones (Part 165) | 7/1/2007
CGD01-2007-089 | Kennebunkport, ME | Security Zones (Part 165) | 7/1/2007
CGD01-2007-090 | Gloucester, MA | Safety Zones (Parts 147 and 165) | 7/1/2007
CGD01-2007-106 | Point O' Woods, NY | Safety Zones (Parts 147 and 165) | 8/11/2007
CGD01-2007-107 | Sag Habor, NY | Safety Zones (Parts 147 and 165) | 8/18/2007
CGD01-2007-114 | Portland Habor, ME | Safety Zones (Parts 147 and 165) | 8/18/2007
CGD01-2007-117 | Newburyport, MA | Safety Zones (Parts 147 and 165) | 8/4/2007
CGD01-2007-119 | Kennebunkport, ME | Security Zones (Part 165) | 8/11/2007
CGD01-2007-122 | Port Jefferson, NY | Safety Zones (Parts 147 and 165) | 8/20/2007
CGD01-2007-124 | Gloucester, MA | Safety Zones (Parts 147 and 165) | 8/9/2007
CGD01-2007-125 | New Haven, CT | Safety Zones (Parts 147 and 165) | 7/21/2007
CGD01-2007-128 | Revere, MA | Safety Zones (Parts 147 and 165) | 8/18/2007
CGD01-2007-131 | Revere, MA | Safety Zones (Parts 147 and 165) | 9/2/2007
CGD01-2007-142 | Bayville, NY | Safety Zones (Parts 147 and 165) | 10/3/2007
CGD01-2007-143 | Southold, NY | Safety Zones (Parts 147 and 165) | 10/6/2007
CGD01-2007-144 | Boston, MA | Safety Zones (Parts 147 and 165) | 10/19/2007
CGD01-2007-146 | New London, CT | Safety Zones (Parts 147 and 165) | 10/2/2007
CGD01-2007-147 | East Haddam, CT | Safety Zones (Parts 147 and 165) | 10/6/2007
CGD01-2007-149 | New London, CT | Safety Zones (Parts 147 and 165) | 10/16/2007
CGD01-2007-154 | Salem, MA | Safety Zones (Parts 147 and 165) | 10/31/2007
CGD01-2007-159 | Patchogue, NY | Safety Zones (Parts 147 and 165) | 11/18/2007
CGD01-2007-160 | Patchogue, NY | Safety Zones (Parts 147 and 165) | 11/18/2007
CGD05-2007-027 | Clarksville, TN | Safety Zones (Parts 147 and 165) | 10/2/2007
CGD05-2007-036 | Wilmington, NC | Safety Zones (Parts 147 and 165) | 3/25/2007
CGD05-2007-041 | Manasquan, NJ | Safety Zones (Parts 147 and 165) | 4/19/2007
CGD05-2007-044 | Hampton, VA | Special Local Regulations (Part 100) | 8/10/2007
CGD05-2007-054 | Jamestown Island, VA | Security Zones (Part 165) | 5/3/2007
CGD05-2007-057 | Hampton, VA | Security Zones (Part 165) | 5/13/2007
CGD05-2007-064 | Hampton, VA | Safety Zones (Parts 147 and 165) | 7/9/2007
CGD05-2007-067 | Washington, DC | Security Zones (Part 165) | 7/20/2007
CGD05-2007-068 | Baltimore, MD | Safety Zones (Parts 147 and 165) | 7/3/2007
CGD05-2007-073 | Clarksville, TN | Safety Zones (Parts 147 and 165) | 7/21/2007
CGD05-2007-076 | Charles County, MD | Safety Zones (Parts 147 and 165) | 7/27/2007
CGD05-2007-078 | Annapolis, MD | Security Zones (Part 165) | 7/27/2007
CGD05-2007-079 | Cape Charles, VA | Safety Zones (Parts 147 and 165) | 8/5/2007
CGD05-2007-080 | Washington, DC | Security Zones (Part 165) | 9/23/2007
CGD05-2007-082 | Hopewell, VA | Safety Zones (Parts 147 and 165) | 9/1/2007
CGD05-2007-086 | Virginia Beach, VA | Safety Zones (Parts 147 and 165) | 9/29/2007
CGD05-2007-091 | Delaware Canal, MD | Safety Zones (Parts 147 and 165) | 9/8/2007
CGD05-2007-096 | Morehead City, NC | Safety Zones (Parts 147 and 165) | 9/26/2007
CGD05-2007-097 | Alexandria Channel, DC | Safety Zones (Parts 147 and 165) | 10/2/2007
CGD05-2007-102 | Talbot County, MD | Security Zones (Part 165) | 10/20/2007
CGD05-2007-103 | Portsmouth, VA | Security Zones (Part 165) | 10/17/2007
CGD05-2007-104 | Alexandria Channel, DC | Safety Zones (Parts 147 and 165) | 10/30/2007
CGD05-2007-105 | Talbot County, MD | Security Zones (Part 165) | 10/20/2007
CGD05-2007-106 | Washington, DC | Security Zones (Part 165) | 10/23/2007
CGD05-2007-110 | Baltimore, MD | Safety Zones (Parts 147 and 165) | 11/2/2007
CGD05-2007-112 | Fairfax County, VA | Security Zones (Part 165) | 11/7/2007
CGD05-2007-114 | Virigina Beach, VA | Safety Zones (Parts 147 and 165) | 11/14/2007
CGD05-2007-115 | Washington, DC | Safety Zones (Parts 147 and 165) | 11/9/2007
CGD05-2007-117 | Alexandria Channel, DC | Safety Zones (Parts 147 and 165) | 12/5/2007
CGD05-2007-118 | Annapolis, MD | Security Zones (Part 165) | 11/27/2007
CGD05-2007-500 | Norkfolk, VA | Safety Zones (Parts 147 and 165) | 9/1/2007
CGD07-2007-024 | Ft. Lauderdale, FL | Special Local Regulations (Part 100) | 5/4/2007
CGD07-2007-209 | Savannah, GA | Special Local Regulations (Part 100) | 11/3/2007
CGD07-2007-227 | Horry County, SC | Safety Zones (Parts 147 and 165) | 10/8/2007
CGD09-2006-079 | Bayfield, WI | Safety Zones (Parts 147 and 165) | 7/4/2007
CGD09-2006-080 | Duluth, MN | Safety Zones (Parts 147 and 165) | 7/4/2007
CGD09-2007-022 | Webster, NY | Safety Zones (Parts 147 and 165) | 5/26/2007
CGD09-2007-024 | Alexandria, NY | Safety Zones (Parts 147 and 165) | 5/22/2007
CGD09-2007-032 | Neebish Island, MI | Safety Zones (Parts 147 and 165) | 5/24/2007
CGD09-2007-048 | Sodus Point, NY | Safety Zones (Parts 147 and 165) | 7/3/2007
CGD09-2007-049 | Baldwinsville, NY | Safety Zones (Parts 147 and 165) | 7/6/2007
CGD09-2007-053 | Brewerston, NY | Safety Zones (Parts 147 and 165) | 7/3/2007
CGD09-2007-056 | Toledo, OH | Safety Zones (Parts 147 and 165) | 6/30/2007
CGD09-2007-063 | Detroit, MI | Safety Zones (Parts 147 and 165) | 6/24/2007
CGD09-2007-064 | Port Detroit Zone | Safety Zones (Parts 147 and 165) | 6/1/2007
CGD09-2007-066 | Toledo, OH | Safety Zones (Parts 147 and 165) | 6/23/2007
CGD09-2007-067 | Port Detroit Zone | Safety Zones (Parts 147 and 165) | 7/1/2007
CGD09-2007-068 | Green Bay, WI | Safety Zones (Parts 147 and 165) | 7/4/2007
CGD09-2007-070 | Port Buffalo Zone, NY | Safety Zones (Parts 147 and 165) | 7/1/2007
CGD09-2007-075 | Tonawanda, NY | Safety Zones (Parts 147 and 165) | 7/4/2007
CGD09-2007-086 | Lorain, OH | Safety Zones (Parts 147 and 165) | 8/26/2007
CGD09-2007-096 | Erie, PA | Safety Zones (Parts 147 and 165) | 8/11/2007
CGD09-2007-104 | Erie, PA | Safety Zones (Parts 147 and 165) | 8/19/2007
CGD09-2007-105 | Sault Ste. Marie, MI | Safety Zones (Parts 147 and 165) | 8/1/2007
CGD09-2007-107 | Caseville, MI | Safety Zones (Parts 147 and 165) | 8/16/2007
CGD09-2007-111 | Bay City, MI | Safety Zones (Parts 147 and 165) | 8/11/2007
CGD09-2007-112 | St. Clair Shores, MI | Safety Zones (Parts 147 and 165) | 8/11/2007
CGD09-2007-113 | Algonac, MI | Safety Zones (Parts 147 and 165) | 8/18/2007
CGD09-2007-120 | Grand Island, NY | Safety Zones (Parts 147 and 165) | 9/8/2007
CGD09-2007-124 | Milwaukee, WI | Safety Zones (Parts 147 and 165) | 10/14/2007
CGD09-2007-125 | Harsens Island, MI | Safety Zones (Parts 147 and 165) | 10/20/2007
CGD13-2007-005 | Portland, OR | Safety Zones (Parts 147 and 165) | 1/23/2007
CGD13-2007-010 | Puget Sound, WA | Security Zones (Part 165) | 3/9/2007
CGD13-2007-021 | Portland, OR | Safety Zones (Parts 147 and 165) | 7/4/2007
CGD13-2007-022 | Tacoma, WA | Safety Zones (Parts 147 and 165) | 7/4/2007
CGD13-2007-023 | Puget Sound, WA | Safety Zones (Parts 147 and 165) | 6/29/2007
CGD13-2007-030 | Olympia, WA | Safety Zones (Parts 147 and 165) | 9/2/2007
CGD13-2007-033 | Puget Sound, WA | Safety Zones (Parts 147 and 165) | 9/7/2007
CGD13-2007-034 | Seattle, WA | Safety Zones (Parts 147 and 165) | 9/14/2007
CGD13-2007-035 | Neah, WA | Safety Zones (Parts 147 and 165) | 9/10/2007
CGD13-2007-037 | Portland, OR | Security Zones (Part 165) | 9/19/2007
CGD13-2007-040 | Portland, OR | Safety Zones (Parts 147 and 165) | 10/9/2007
CGD13-2007-041 | Portland, OR | Security Zones (Part 165) | 10/23/2007
CGD13-2007-042 | Portland, OR | Safety Zones (Parts 147 and 165) | 10/17/2007
CGD13-2007-043 | Portland, OR | Safety Zones (Parts 147 and 165) | 10/21/2007
CGD13-2007-044 | Elliott Bay, WA | Security Zones (Part 165) | 10/31/2007
CGD13-2007-045 | Elliott Bay, WA | Security Zones (Part 165) | 11/1/2007
CGD13-2007-046 | Elliott Bay, WA | Security Zones (Part 165) | 11/2/2007
CGD13-2007-047 | Olympia, WA | Security Zones (Part 165) | 11/5/2007
CGD13-2007-050 | Portland, OR | Safety Zones (Parts 147 and 165) | 11/27/2007
CGD13-2007-050 | Portland, OR | Safety Zones (Parts 147 and 165) | 11/29/2007
CGD13-2007-058 | Tillamook Bay, OR | Safety Zones (Parts 147 and 165) | 12/24/2007
CGD13-2007-059 | Puget Sound, WA | Safety Zones (Parts 147 and 165) | 12/30/2007
CGD13-2008-001 | Portland, OR | Safety Zones (Parts 147 and 165) | 1/3/2008
CGD13-2008-002 | Portland, OR | Safety Zones (Parts 147 and 165) | 1/5/2008
CGD13-2008-003 | Portland, OR | Safety Zones (Parts 147 and 165) | 1/9/2008
CGD13-2008-004 | Puget Sound, WA | Security Zones (Part 165) | 1/23/2008
CGD13-2008-005 | Puget Sound, WA | Safety Zones (Parts 147 and 165) | 1/5/2008
CGD13-2008-007 | Portland, OR | Safety Zones (Parts 147 and 165) | 1/22/2008
CGD13-2008-010 | Portland, OR | Safety Zones (Parts 147 and 165) | 1/30/2008
CGD13-2008-011 | Portland, OR | Safety Zones (Parts 147 and 165) | 1/30/2008
COTP Charleston-2007-112 | The Port of Charleston | Security Zones (Part 165) | 5/15/2007
COTP Charleston-2007-114 | The Port of Charleston | Safety Zones (Parts 147 and 165) | 7/4/2007
COTP Charleston-2007-131 | Charleston, SC | Safety Zones (Parts 147 and 165) | 5/25/2007
COTP Charleston-2007-162 | Moncks Corner, SC | Safety Zones (Parts 147 and 165) | 6/30/2007
COTP Guam-2007-002 | Apra Harbor, GU | Safety Zones (Parts 147 and 165) | 4/10/2007
COTP Honolulu-2008-001 | U.S Forces Vessel SBX-1, HI | Security Zones (Part 165) | 1/11/2008
COTP Jacksonville-2007-005 | Jacksonville, FL | Safety Zones (Parts 147 and 165) | 1/8/2007
COTP Jacksonville-2007-074 | New Smyra Beach, FL | Safety Zones (Parts 147 and 165) | 6/30/2007
COTP Jacksonville-2007-082 | Jacksonville, FL | Safety Zones (Parts 147 and 165) | 7/4/2007
COTP Jacksonville-2007-147 | Orange Park, Flordia | Safety Zones (Parts 147 and 165) | 7/1/2007
COTP Jacksonville-2007-180 | Port Canaveral, FL | Safety Zones (Parts 147 and 165) | 8/4/2007
COTP Jacksonville-2007-181 | Port Canaveral, FL | Safety Zones (Parts 147 and 165) | 8/8/2007
COTP Jacksonville-2007-186 | Flager Beach, FL | Safety Zones (Parts 147 and 165) | 9/7/2007
COTP Jacksonville-2007-194 | Fernandina, FL | Safety Zones (Parts 147 and 165) | 8/18/2007
COTP Jacksonville-2007-217 | Patrick Air Force Base, FL | Safety Zones (Parts 147 and 165) | 9/21/2007
COTP Jacksonville-2007-228 | Jacksonville Beach, FL | Safety Zones (Parts 147 and 165) | 11/1/2007
COTP Jacksonville-2007-231 | Cape Canaveral, FL | Safety Zones (Parts 147 and 165) | 11/1/2007
COTP Key West-2007-015 | Marathon, FL | Safety Zones (Parts 147 and 165) | 5/20/2007
COTP Key West-2007-063 | Key Largo, FL | Safety Zones (Parts 147 and 165) | 3/17/2007
COTP LA-LB-2007-001 | Pacific Ocean, CA | Safety Zones (Parts 147 and 165) | 5/24/2007
COTP LA-LB-2007-009 | Los Angeles, CA | Safety Zones (Parts 147 and 165) | 12/9/2007
COTP Lower Mississippi River-2007-001 | Memphis, TN | Safety Zones (Parts 147 and 165) | 1/16/2007
COTP Lower Mississippi River-2007-002 | Vicksburg, MS | Safety Zones (Parts 147 and 165) | 1/19/2007
COTP Lower Mississippi River-2007-004 | Natchez, MS | Safety Zones (Parts 147 and 165) | 1/25/2007
COTP Lower Mississippi River-2007-005 | Vicksburg, MS | Safety Zones (Parts 147 and 165) | 2/2/2007
COTP Lower Mississippi River-2007-006 | Vicksburg, MS | Safety Zones (Parts 147 and 165) | 3/15/2007
COTP Lower Mississippi River-2007-010 | Memphis, TN | Safety Zones (Parts 147 and 165) | 8/27/2007
COTP Lower Mississippi River-2007-011 | Memphis, TN | Safety Zones (Parts 147 and 165) | 8/15/2007
COTP Miami-2007-004 | Miami, FL | Safety Zones (Parts 147 and 165) | 3/18/2007
COTP Miami-2007-020 | Hobe Sound, FL | Safety Zones (Parts 147 and 165) | 3/24/2007
COTP Miami-2007-032 | Miami, FL | Safety Zones (Parts 147 and 165) | 2/25/2007
COTP Miami-2007-034 | Miami, FL | Safety Zones (Parts 147 and 165) | 3/24/2007
COTP Miami-2007-040 | Miami, FL | Safety Zones (Parts 147 and 165) | 3/1/2007
COTP Miami-2007-041 | Miami, FL | Safety Zones (Parts 147 and 165) | 3/4/2007
COTP Miami-2007-103 | Miami, FL | Safety Zones (Parts 147 and 165) | 10/27/2007
COTP Miami-2007-109 | Key Biscayne, FL | Security Zones (Part 165) | 4/28/2007
COTP Miami-2007-133 | Miami, FL | Safety Zones (Parts 147 and 165) | 6/18/2007
COTP Miami-2007-167 | Miami, FL | Safety Zones (Parts 147 and 165) | 7/19/2007
COTP Miami-2007-178 | Miami, FL | Safety Zones (Parts 147 and 165) | 8/2/2007
COTP Miami-2007-179 | Fort Lauderdale, FL | Safety Zones (Parts 147 and 165) | 8/6/2007
COTP Miami-2007-196 | Miami, FL | Safety Zones (Parts 147 and 165) | 9/11/2007
COTP Miami-2007-199 | Fort Pierce, FL | Safety Zones (Parts 147 and 165) | 8/29/2007
COTP Miami-2007-201 | Miami, FL | Safety Zones (Parts 147 and 165) | 8/24/2007
COTP Miami-2007-202 | Fort Lauderdale, FL | Safety Zones (Parts 147 and 165) | 8/24/2007
COTP Miami-2007-210 | Fort Pierce, FL | Safety Zones (Parts 147 and 165) | 9/11/2007
COTP Miami-2007-215 | Miami, FL | Safety Zones (Parts 147 and 165) | 10/27/2007
COTP Miami-2007-230 | Miami, FL | Safety Zones (Parts 147 and 165) | 10/10/2007
COTP Miami-2007-232 | Miami, FL | Safety Zones (Parts 147 and 165) | 10/6/2007
COTP Miami-2007-241 | Miami, FL | Safety Zones (Parts 147 and 165) | 10/20/2007
COTP Mobile-2007-003 | Biloxi, MS | Safety Zones (Parts 147 and 165) | 3/24/2007
COTP Mobile-2007-009 | Orange Beach, AL | Safety Zones (Parts 147 and 165) | 8/11/2007
COTP Mobile-2007-014 | Pensacola Beach, FL | Safety Zones (Parts 147 and 165) | 7/18/2007
COTP Mobile-2007-018 | Mobile, AL | Safety Zones (Parts 147 and 165) | 4/27/2007
COTP Mobile-2007-019 | Biloxi, MS | Safety Zones (Parts 147 and 165) | 4/30/2007
COTP Mobile-2007-021 | Mobile, AL | Safety Zones (Parts 147 and 165) | 5/19/2007
COTP Mobile-2007-022 | Biloxi, MS | Safety Zones (Parts 147 and 165) | 6/1/2007
COTP Mobile-2007-023 | Fort Walton Beach, FL | Safety Zones (Parts 147 and 165) | 6/2/2007
COTP Mobile-2007-024 | Biloxi, MS | Safety Zones (Parts 147 and 165) | 6/1/2007
COTP Mobile-2007-025 | Biloxi, MS | Safety Zones (Parts 147 and 165) | 6/11/2007
COTP Mobile-2007-027 | Mobile, AL | Security Zone (Part 165) | 6/21/2007
COTP Mobile-2007-030 | Orange Beach, AL | Safety Zones (Parts 147 and 165) | 8/18/2007
COTP Morgan City-2007-001 | Morgan City, LA | Safety Zones (Parts 147 and 165) | 2/8/2007
COTP Morgan City-2007-003 | Morgan City, LA | Safety Zones (Parts 147 and 165) | 2/22/2007
COTP Morgan City-2007-004 | Amelia, LA | Safety Zones (Parts 147 and 165) | 5/26/2007
COTP Morgan City-2007-005 | Morgan City, LA | Safety Zones (Parts 147 and 165) | 5/26/2007
COTP Morgan City-2007-006 | Morgan City, LA | Safety Zones (Parts 147 and 165) | 7/24/2007
COTP Morgan City-2007-007 | Morgan City, LA | Safety Zones (Parts 147 and 165) | 8/13/2007
COTP Morgan City-2007-011 | Morgan City, LA | Safety Zones (Parts 147 and 165) | 9/26/2007
COTP Ohio Valley-2007-010 | Louisville, KY | Safety Zones (Parts 147 and 165) | 4/15/2007
COTP Ohio Valley-2007-011 | Huntington, WV | Safety Zones (Parts 147 and 165) | 5/12/2007
COTP Ohio Valley-2007-013 | Parkersburg, WV | Safety Zones (Parts 147 and 165) | 5/20/2007
COTP Ohio Valley-2007-014 | Saint Albans, WV | Safety Zones (Parts 147 and 165) | 6/30/2007
COTP Ohio Valley-2007-015 | Clarksville, TN | Safety Zones (Parts 147 and 165) | 3/30/2007
COTP Ohio Valley-2007-016 | Metropolis, IL | Safety Zones (Parts 147 and 165) | 5/25/2007
COTP Ohio Valley-2007-017 | Ashland, KY | Safety Zones (Parts 147 and 165) | 7/2/2007
COTP Ohio Valley-2007-018 | South Point, OH | Safety Zones (Parts 147 and 165) | 7/4/2007
COTP Ohio Valley-2007-019 | Point Pleasant, WV | Safety Zones (Parts 147 and 165) | 7/7/2007
COTP Ohio Valley-2007-020 | Portsmouth, OH | Safety Zones (Parts 147 and 165) | 7/4/2007
COTP Ohio Valley-2007-021 | Evansville, IN | Safety Zones (Parts 147 and 165) | 7/1/2007
COTP Ohio Valley-2007-022 | Marrietta, OH | Safety Zones (Parts 147 and 165) | 7/14/2007
COTP Ohio Valley-2007-023 | Cincinnati, OH | Safety Zones (Parts 147 and 165) | 7/7/2007
COTP Ohio Valley-2007-024 | Bellevue, KY | Safety Zones (Parts 147 and 165) | 7/14/2007
COTP Ohio Valley-2007-027 | Tuscumbia, AL | Safety Zones (Parts 147 and 165) | 7/4/2007
COTP Ohio Valley-2007-028 | Kingston, TN | Safety Zones (Parts 147 and 165) | 7/4/2007
COTP Ohio Valley-2007-029 | Huntington, WV | Safety Zones (Parts 147 and 165) | 8/10/2007
COTP Ohio Valley-2007-030 | Clarksville, TN | Safety Zones (Parts 147 and 165) | 8/4/2007
COTP Ohio Valley-2007-031 | Point Pleasant, WV | Safety Zones (Parts 147 and 165) | 9/1/2007
COTP Ohio Valley-2007-032 | Warsaw, KY | Safety Zones (Parts 147 and 165) | 8/18/2007
COTP Ohio Valley-2007-033 | Louisville, KY | Safety Zones (Parts 147 and 165) | 8/24/2007
COTP Ohio Valley-2007-034 | Aurora, IN | Safety Zones (Parts 147 and 165) | 8/18/2007
COTP Ohio Valley-2007-035 | Cairo, IL | Safety Zones (Parts 147 and 165) | 8/6/2007
COTP Ohio Valley-2007-036 | Cairo, IL | Safety Zones (Parts 147 and 165) | 7/27/2007
COTP Ohio Valley-2007-037 | Grand Tower, IL | Safety Zones (Parts 147 and 165) | 8/9/2007
COTP Ohio Valley-2007-038 | Cape Giradeau, MO | Safety Zones (Parts 147 and 165) | 8/9/2007
COTP Ohio Valley-2007-039 | Nashville, TN | Safety Zones (Parts 147 and 165) | 8/25/2007
COTP Ohio Valley-2007-040 | Huntsville, AL | Safety Zones (Parts 147 and 165) | 6/26/2007
COTP Ohio Valley-2007-041 | Clarksville, TN | Safety Zones (Parts 147 and 165) | 8/29/2007
COTP Ohio Valley-2007-043 | Charleston, WV | Safety Zones (Parts 147 and 165) | 10/6/2007
COTP Ohio Valley-2007-044 | Chattanooga, TN | Safety Zones (Parts 147 and 165) | 10/12/2007
COTP Ohio Valley-2007-056 | Ledbetter, KY | Safety Zones (Parts 147 and 165) | 1/20/2007
COTP San Diego-2007-006 | Bullhead City, AZ | Special Local Regulations (Part 100) | 3/10/2007
COTP San Diego-2007-014 | Oceanside Harbor, CA | Safety Zones (Parts 147 and 165) | 3/31/2007
COTP San Diego-2007-017 | Lake Havasu, AZ | Safety Zones (Parts 147 and 165) | 4/14/2007
COTP San Diego-2007-051 | San Diego, CA | Safety Zones (Parts 147 and 165) | 3/11/2007
COTP San Diego-2007-051 | San Diego, CA | Safety Zones (Parts 147 and 165) | 3/19/2007
COTP San Diego-2007-052 | San Diego, CA | Safety Zones (Parts 147 and 165) | 5/16/2007
COTP San Diego-2007-351 | San Diego, CA | Safety Zones (Parts 147 and 165) | 12/31/2007
COTP San Francisco Bay-2007-003 | Sacramento, CA | Safety Zones (Parts 147 and 165) | 3/28/2007
COTP San Francisco Bay-2007-021 | Sausalito, CA | Safety Zones (Parts 147 and 165) | 7/4/2007
COTP San Francisco Bay-2007-028 | San Francisco Bay, CA | Safety Zones (Parts 147 and 165) | 7/4/2007
COTP San Francisco Bay-2007-032 | Humboldt Bay, CA | Safety Zones (Parts 147 and 165) | 7/3/2007
COTP San Francisco Bay-2007-035 | San Francisco Bay, CA | Safety Zones (Parts 147 and 165) | 7/28/2007
COTP San Francisco Bay-2007-039 | San Joaquin River, CA | Safety Zones (Parts 147 and 165) | 8/12/2007
COTP San Francisco Bay-2007-040 | Pittsburg, CA | Special Local Regulations (Part 100) | 9/9/2007
COTP San Francisco Bay-2007-044 | Pittsburg, CA | Safety Zones (Parts 147 and 165) | 9/8/2007
COTP San Francisco Bay-2007-045 | San Francisco Bay, CA | Safety Zones (Parts 147 and 165) | 9/26/2007
COTP San Francisco Bay-2007-046 | San Francisco Bay, CA | Safety Zones (Parts 147 and 165) | 9/29/2007
COTP San Francisco Bay-2007-048 | Franks Tract, CA | Safety Zones (Parts 147 and 165) | 10/13/2007
COTP San Francisco Bay-2007-052 | San Francisco Bay, CA | Safety Zones (Parts 147 and 165) | 9/7/2007
COTP San Francisco Bay-2007-053 | San Francisco Bay, CA | Safety Zones (Parts 147 and 165) | 9/28/2007
COTP San Francisco Bay-2008-001 | Monterey Bay, CA | Safety Zones (Parts 147 and 165) | 1/7/2008
COTP San Francisco Bay-2008-002 | San Francisco Bay, CA | Safety Zones (Parts 147 and 165) | 1/17/2008
COTP San Francisco Bay-2008-003 | San Francisco Bay, CA | Safety Zones (Parts 147 and 165) | 1/12/2008
COTP San Francisco Bay-2008-004 | San Francisco Bay, CA | Safety Zones (Parts 147 and 165) | 1/27/2008
COTP San Juan-2007-039 | San Juan, PR | Safety Zones (Parts 147 and 165) | 7/22/2007
COTP San Juan-2007-068 | Charlotte Amalie, USVI | Safety Zones (Parts 147 and 165) | 3/23/2007
COTP San Juan-2007-070 | San Juan, PR | Safety Zones (Parts 147 and 165) | 4/4/2007
COTP San Juan-2007-079 | San Juan, PR | Safety Zones (Parts 147 and 165) | 4/28/2007
COTP San Juan-2007-098 | San Juan, PR | Safety Zones (Parts 147 and 165) | 4/22/2007
COTP San Juan-2007-108 | San Juan, PR | Safety Zones (Parts 147 and 165) | 5/6/2007
COTP San Juan-2007-190 | San Juan, PR | Safety Zones (Parts 147 and 165) | 8/16/2007
COTP San Juan-2007-193 | San Juan, PR | Security Zones (Part 165) | 8/23/2007
COTP San Juan-2007-219 | San Juan, PR | Safety Zones (Parts 147 and 165) | 10/21/2007
COTP San Juan-2007-250 | Guanica, PR | Safety Zones (Parts 147 and 165) | 9/6/2007

[FR Doc. E9-20508 Filed 8-25-09; 8:45 am]

BILLING CODE 4910-15-P